DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

Applicant: Omaha's Henry Doorly Zoo, Omaha, NE, PRT-032757

The applicant has amended a permit request. The original request for a permit to import 1 captive-born female Sumatran tiger (Panthera tigris sumatrae) from the Surabaya Zoo, Indonesia for the purpose of propagation for the enhancement of the survival of the species was published in the Federal Register on September 21, 2000. The applicant now requests a permit to import 1 captive-born male and 2 captive-born female Sumatran tigers (Panthera tigris sumatrae) from the Surabaya Zoo, Indonesia for the purpose of propagation for the enhancement of the survival of the species.

Applicant: Paul L. Snider, Lewiston, ID, PRT-035504

The applicant requests a permit to import the sport-hunted trophy of one male bontebok (Damaliscus pygargus dorcas) culled from a captive herd maintained under the management program of the Republic of South Africa, for the purpose of enhancement of the survival of the species.

Applicant: White Oak Conservation Center, Yulee, FL, PRT-843877

The applicant requests a permit to import up to fifteen captive-held and/or captive-born Visayan deer (Cervus alfredi) originating from the Mari-ti Center, Panay, Philippines, for the purpose of enhancement of the survival of the species through captive propagation. The specimens will be shipped to Zoo Zurich, Zurich, Switzerland, for quarantine prior to being imported into the United States.

Applicant: University of Illinois, Chicago, IL PRT-009695

The applicant requests re-issuance of their permit to import samples obtained from Cuban sandhill cranes (Grus canadensis nesiotes) in Cuba for the purpose of scientific research. This notification covers activities conducted by the applicant over a five year period.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: Joe Klutsch, King Salmon, AK, PRT-035705

The applicant requests a permit to import a polar bear (Ursus maritimus) sport-hunted from the Lancaster Sound polar bear population, Northwest Territories, Canada for personal use.

Written data or comments should be submitted to the Director, U.S. Fish and Wildlife Service, Division of Management Authority, 4401 North Fairfax Drive, Room 700, Arlington, Virginia 22203 and must be received by the Director within 30 days of the date of this publication.

The U.S. Fish and Wildlife Service has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: November 6, 2000.
Charlie Chandler,
Chief, Branch of Permits, Division of Management Authority.

[FR Doc. 00-28895 Filed 11-9-00; 8:45 am]

BILLING CODE 4310-55-P